DEPARTMENT OF THE INTERIOR

Bureau of Land Management

[LLORM00000-L12200000.DF0000-223. HAG22-0012]

Notice of Public Meetings for the Western Oregon Resource Advisory Council

AGENCY: Bureau of Land Management, Interior.

ACTION: Notice of public meetings.

SUMMARY: In accordance with the Federal Land Policy and Management Act and the Federal Advisory Committee Act of 1972, the U.S. Department of the Interior, Bureau of Land Management's (BLM) Western Oregon Resource Advisory Council (RAC) will meet as follows.

DATES: The RAC will meet virtually on May 12, 2022, and host a field tour on May 13, 2022. The May 12 virtual meeting will begin at 9 a.m. and adjourn at approximately 12 p.m. The field tour will commence at 9 a.m. and conclude at approximately 4 p.m. The meeting and field tour are open to the public.

ADDRESSES: The May 12 meeting will be held virtually over the Zoom platform. Participants must register at least 1 week in advance of the meeting. The link to register for the RAC Zoom meetings is: https://blm.zoomgov.com/webinar/register/WN_xEuoC8JvTT-Pxaq-H4uzCg.

The RAC will take a field tour of the Anderson Butte area on May 13. The RAC will gather at 9 a.m. at the BLM Medford District Office, 3040 Biddle Road, Medford, Oregon, and arrive at Upper Table Rocks at 9:45 a.m., then proceed to Anderson Butte, returning to the BLM Medford District Office at approximately 4 p.m.

The public may submit written comments to the RAC by emailing the RAC coordinator, Kyle Sullivan, at ksullivan@blm.gov.

FOR FURTHER INFORMATION CONTACT: Kyle Sullivan, Public Affairs Specialist, Medford District, 3040 Biddle Road, Medford, OR 97504; phone: (541) 618-2340; email: ksullivan@blm.gov. Persons who use a telecommunications device for the deaf (TDD) may call the Federal Relay Service (FRS) at 7-1-1 to contact Mr. Sullivan during normal business hours. The FRS is available 24 hours a day, 7 days a week, to leave a message or question. You will receive a reply during normal business hours.

SUPPLEMENTARY INFORMATION: The 15-member Western Oregon RAC advises the Secretary of the Interior, through the BLM, on a variety of public-land issues across public lands in Western Oregon, including the Coos Bay, Medford, Northwest Oregon, and Roseburg Districts and part of the Lakeview District. On May 12, the RAC will follow up on the recreation fee proposal in the Coos Bay District and discuss the process and next steps for reviewing Secure Rural School Title II funding projects. Title II funds support restoration projects that may not otherwise have been completed, such as the improved maintenance of existing infrastructure, enhancement of forest ecosystems, and restoration of land health and water quality. In turn, these projects create additional employment opportunities in western Oregon communities and foster collaborative relationships between those who use public lands and those who manage them. On May 13, the RAC will visit Upper Table Rocks and the Anderson Butte Area to review Title II projects related to recreation improvements, youth employment, hazardous fuels reduction, and illegal dumping.

Members of the public are welcome to attend the field tour and must provide their own transportation and meals. Individuals who plan to attend must RSVP to the BLM Medford District Office at least 2 weeks in advance of the field tour (see FOR FURTHER INFORMATION CONTACT). Please indicate whether you need special assistance, such as sign language interpretation or other reasonable accommodations. The field tour will follow current Centers for Disease Control and Prevention COVID-19 guidance regarding social distancing and mask wearing.

The meetings are open to the public, and a public comment period will be held on May 12, 2022, at 11:30 a.m. Depending on the number of persons wishing to comment and the time available, time allotted for individual oral comments may be limited. The public may submit written comments to the RAC by emailing the RAC coordinator (see ADDRESSES).

Before including your address, phone number, email address, or other personal identifying information in your comment, you should be aware that your entire comment—including your personal identifying information—may be made publicly available at any time. While you can ask us in your comment to withhold your personal identifying information from public review, we cannot guarantee that we will be able to do so.

Previous minutes, membership information, and upcoming agendas are available at: https://www.blm.gov/get-involved/resource-advisory-council/near-you/oregon-washington/western-oregon-rac. Detailed minutes for the RAC meetings are also maintained in the Medford District Office and will be available for public inspection and reproduction during regular business hours within 90 days following the meeting.

(Authority: 43 CFR 1784.4-2)

Elizabeth R. Burghard,
Medford District Manager, (Designated Federal Officer).

[FR Doc. 2022-06582 Filed 3-28-22; 8:45 am]

BILLING CODE 4310-JB-P